FEDERAL COMMUNICATIONS COMMISSION

47 CFR Part 64

[WC Docket No. 13-39, FCC 18-120]

Rural Call Completion

AGENCY: Federal Communications Commission.

ACTION: Final rule; announcement of effective date.

SUMMARY: In this document, the Commission announces that the Office of Management and Budget (OMB) has approved, for a period of three years, the information collection associated with rules requiring intermediate providers to register with the Commission before offering to transmit covered voice communications that were adopted in the Commission's Rural Call Completion, Third Report and Order (Order). This document is consistent with the Order, which stated that the Commission would publish a document in the Federal Register announcing the effective date of those rules.

DATES: The addition of 47 CFR 64.2115, published at 83 FR 47296, September 19, 2018, is effective May 15, 2019.

FOR FURTHER INFORMATION CONTACT: Zachary Ross, Competition Policy Division, Wireline Competition Bureau, at (202) 418-1033, or email: zachary.ross@fcc.gov.

SUPPLEMENTARY INFORMATION: This document announces that, on January 28, 2019, OMB approved, for a period of three years, the information collection relating to the rural call completion registry requirements for intermediate providers contained in the Commission's Order, FCC 18-120, published at 83 FR 47296, September 19, 2018. The OMB Control Number is 3060-1259. The Commission publishes this document as an announcement of the effective date of the rules. If you have any comments on the burden estimates listed below, or how the Commission can improve the collections and reduce any burdens caused thereby, please contact Nicole Ongele, Federal Communications Commission, Room 1-A620, 445 12th Street SW, Washington, DC 20554. Please include the OMB Control Number, 3060-1259, in your correspondence. The Commission will also accept your comments via email at PRA@fcc.gov. To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received final OMB approval on January 28, 2019, for the information collection requirements contained in the modifications to the Commission's rules in 47 CFR part 64. Under 5 CFR part 1320, an agency may not conduct or sponsor a collection of information unless it displays a current, valid OMB Control Number.

No person shall be subject to any penalty for failing to comply with a collection of information subject to the Paperwork Reduction Act that does not display a current, valid OMB Control Number. The OMB Control Number is 3060-1259.

The foregoing notice is required by the Paperwork Reduction Act of 1995, Public Law 104-13, October 1, 1995, and 44 U.S.C. 3507.

The total annual reporting burdens and costs for the respondents are as follows:

OMB Control Number: 3060-1259.

OMB Approval Date: January 28, 2019.

OMB Expiration Date: January 31, 2022.

Title: Rural Call Completion, WC Docket No. 13-39.

Form Number: N/A.

Respondents: Business or other for-profit entities.

Number of Respondents and Responses: 168 respondents; 168 responses.

Estimated Time per Response: 1 hour.

Frequency of Response: Third-party disclosure; one-time reporting requirement; on occasion reporting requirement.

Obligation to Respond: Required to obtain or retain benefits. Statutory authority for this collection is contained in sections 1, 4(i), 201(b), 202(a), 217, and 262 of the Communications Act of 1934, as amended, 47 U.S.C. 151, 154(i), 201(b), 202(a), 217, and 262.

Total Annual Burden: 168 hours.

Total Annual Cost: No Cost.

Nature and Extent of Confidentiality: The Commission is not requesting that the respondents submit confidential information to the FCC. Respondents may, however, request confidential treatment for information they believe to be confidential under 47 CFR 0.459 of the Commission's rules.

Privacy Act Impact Assessment: No impact(s).

Needs and Uses: The Improving Rural Call Quality and Reliability Act of 2017 (RCC Act), Public Law 115-129, requires the Commission to establish a registry for intermediate providers and requires intermediate providers to register with the Commission before offering to transmit covered voice communications. The information collected through this information collection will be used to implement Congress's direction to the Commission to establish an intermediate provider registry.

Federal Communications Commission.
Katura Jackson,
Federal Register Liaison Officer, Office of the Secretary.

[FR Doc. 2019-07395 Filed 4-12-19; 8:45 am]

BILLING CODE 6712-01-P